DEPARTMENT OF EDUCATION

Advisory Committee on Student Financial Assistance: Meeting/Hearing

AGENCY: Advisory Committee on Student Financial Assistance, Education.

ACTION: Notice of an Open/Meeting and Hearing.

SUMMARY: This notice sets forth the schedule and proposed agenda of a forthcoming open meeting and hearing of the Advisory Committee on Student Financial Assistance. This notice also describes the functions of the Advisory Committee. Notice of an advisory committee hearing is required under Section 10(a)(2) of the Federal Advisory Committee Act. This document is intended to notify the general public of their opportunity to attend.

DATE AND TIME: Friday, September 12, 2014, beginning at 9:00 a.m. and ending at approximately 4:00 p.m. (EDT).

ADDRESSES: Trinity Washington University, O'Connor Auditorium, 125 Michigan Avenue NE., Washington, District of Columbia 20017.

FOR FURTHER INFORMATION CONTACT: Ms. Janet Chen, Director of Programs, Advisory Committee on Student Financial Assistance, Capitol Place, 80 F Street NW., Suite 413, Washington, DC 20202-7582, (202) 219-2099.

SUPPLEMENTARY INFORMATION: The Advisory Committee on Student Financial Assistance is established under Section 491 of the Higher Education Act of 1965 as amended by Public Law 100-50 (20 U.S.C. 1098). The Advisory Committee serves as an independent source of advice and counsel to the Congress and the Secretary of Education on student financial aid policy. Since its inception, the congressional mandate requires the Advisory Committee to conduct objective, nonpartisan, and independent analyses on important aspects of the student assistance programs under Title IV of the Higher Education Act.

The one-day meeting/hearing will provide an opportunity for members of the public to suggest strategies and techniques to address the technical challenges involved in creating the Postsecondary Institution Ratings System (PIRS). In particular, the Committee seeks constructive, analytical input on how PIRS can successfully address challenges in one or more of the following ten areas: (1) Account for the diversity of American higher education; (2) Work within the financing structure of higher education; (3) Foster improvement in student and institutional outcomes; (4) Distinguish between consumer needs and accountability; (5) Overcome inadequacies and deficiencies in existing data; (6) Minimize unintended effects that undermine the objectives; (7) Contend with the subjective nature of ratings and rankings; (8) Ensure links to student aid improve access and completion; (9) Integrate with existing public data and information systems; (10) Provide for adequate pilot testing before full implementation.

Given its legislative charge, the Advisory Committee is especially interested in how PIRS might be designed to minimize unintended effects on Title IV recipients, in particular low-income students.

To request time for public comment, please email ACSFA@ed.gov with your name, contact information, and written testimony by August 25, 2014. Space is limited and will be allotted in order of registration. Advisory Committee staff will contact presenters prior to the hearing to confirm participation. To provide written comment in lieu of speaking at the hearing, please submit comments by email to ACSFA@ed.gov by August 25, 2014.

Space for the meeting/hearing is limited and you are encouraged to register early. You may register on the Advisory Committee's Web site, http://www2.ed.gov/ACSFA or by sending an email to the following address: ACSFA@ed.gov or Tracy.Deanna.Jones@ed.gov. Please include your name, title, affiliation, mailing and email addresses, and telephone and fax numbers. If you are unable to register electronically, you may fax your registration information to the Advisory Committee staff office at (202) 219-3032. The registration deadline is Tuesday, September 2, 2014.

Individuals who will need accommodations for a disability in order to attend the hearing (i.e., interpreting services, assistive listening devices, and/or materials in alternative format) should notify the Advisory Committee no later than Tuesday, September 2, 2014 by contacting Ms. Tracy Jones at (202) 219-2099 or via email at tracy.deanna.jones@ed.gov. We will attempt to meet requests after this date, but cannot guarantee availability of the requested accommodation. The hearing site is accessible to individuals with disabilities. Individuals who use a telecommunications device for the deaf (TTY) may call the Federal Information Relay Service (FRS) toll free at 1-800-877-8339.

Records are kept for Advisory Committee proceedings, and are available for inspection at the Office of the Advisory Committee on Student Financial Assistance, Capitol Place, 80 F Street NW., Suite 413, Washington, DC from the hours of 9:00 a.m. to 5:30 p.m. Eastern Standard Time, Monday through Friday, except Federal holidays. Information regarding the Advisory Committee is available on the Committee's Web site, www2.ed.gov/ACSFA.

Dated: August 11, 2014.
William J. Goggin,
Executive Director, Advisory Committee on Student Financial Assistance.

[FR Doc. 2014-19326 Filed 8-14-14; 8:45 am]

BILLING CODE 4000-01-P